DEPARTMENT OF HEALTH AND HUMAN SERVICES

Food and Drug Administration

21 CFR Part 558

New Animal Drugs for Use in Animal Feeds; Decoquinate; Correction

AGENCY: Food and Drug Administration, HHS.

ACTION: Final rule; correction.

SUMMARY: The Food and Drug Administration (FDA) is correcting a rule that appeared in theFederal Register of December 5, 2002 (67 FR 72370). The rule amended the animal drug regulations to reflect approval of a supplemental new animal drug application (NADA). FDA is correcting the range of approved concentrations of decoquinate Type A medicated article that may be used to make certain combination drug Type C medicated feeds for cattle. This correction is being made so the decoquinate regulations accurately reflect previously approved concentrations. This document corrects those errors.

DATES: This rule is effective March 31, 2003.

FOR FURTHER INFORMATION CONTACT: George K. Haibel, Center for Veterinary Medicine (HFV-6), Food and Drug Administration, 7519 Standish Pl., Rockville, MD 20855, 301-827-4567, e-mail: ghaibel@ cvm.fda.gov

SUPPLEMENTARY INFORMATION: In FR Doc. 02-30863, appearing on page 72370 in the Federal Register of December 5, 2002, the following correction is made:

§ 558.195 [Amended]

1. On page 72372, in § 588.195, in the table in paragraph (e)(2), under the “Decoquinate in grams/ton” column, in the entries for (iii), (iv), and (v), “13.6” is amended to read “13.6 to 27.2”.

Dated: March 25, 2003.
Steven D. Vaughn,
Director, Office of New Animal Drug Evaluation, Center for Veterinary Medicine.

[FR Doc. 03-7599 Filed 3-28-03; 8:45 am]

BILLING CODE 4160-01-S